DEPARTMENT OF ENERGY

Federal Energy Regulatory Commission

[Docket No. EL16-40-000]

Hoosier Energy Rural Electric Cooperative, Inc.; Notice of Filing

Take notice that on February 18, 2016, Hoosier Energy Rural Electric Cooperative, Inc. (Hoosier), on behalf of itself and its eighteen participating electric distribution cooperative member-owners (collectively, the Participating Members) ¹ pursuant to section 292.402 of the Federal Energy Regulatory Commission's Rules of Practice and Procedure, 18 CFR 292.402, filed a petition for partial waiver of certain obligations imposed on Hoosier and the Participating Members under sections 292.303(a) and 292.303(b) of the Public Utility Regulatory Policies Act of 1978, as amended.²

¹ Hoosier's eighteen Participating Member-owners joining in this petition are: Bartholomew County REMC (Columbus, IN); Clark County REMC (Sellersburg, IN); Daviess-Martin County REMC (Loogootee, IN); Decatur County REMC (Greensburg, IN); Dubois REC, Inc. (Jasper, IN); Harrison REMC (Corydon, IN); Henry County REMC (New Castle, IN); Jackson County REMC (Brownstown, IN);.Johnson County REMC (Franklin, IN); Orange County REMC (Orleans, IN); RushShelby Energy (Manilla, IN); South Central Indiana REMC (Martinsville, IN); Southeastern Indiana REMC (Osgood, IN); Southern Indiana Power (Tell City, IN); Utilities District of Western Indiana REMC (Bloomfield, IN); Wayne-White Counties Electric Cooperative (Fairfield, IL); WIN Energy REMC (Vincennes, IN); and Whitewater Valley REMC (Liberty, IN).

² 16 U.S.C. 824a-3.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 10, 2016.

Dated: February 25, 2016.
Nathaniel J. Davis, Sr.,
Deputy Secretary.

[FR Doc. 2016-04694 Filed 3-3-16; 8:45 am]

BILLING CODE 6717-01-P